DEPARTMENT OF THE TREASURY

Office of Foreign Assets Control

31 CFR Part 589

Publication of Ukraine-Related Web General License 14 and Subsequent Iterations

AGENCY: Office of Foreign Assets Control, Treasury.

ACTION: Publication of web general licenses.

SUMMARY: The Department of the Treasury's Office of Foreign Assets Control (OFAC) is publishing six Ukraine-related web general licenses (GLs) in the Federal Register: GL 14, GL 14A, GL 14B, GL 14C, GL 14D, and GL 14E, each of which is now expired and was previously issued on OFAC's website.

DATES: GL 14E expired on January 28, 2019. See SUPPLEMENTARY INFORMATION of this rule for additional relevant dates.

ADDRESSES: Electronic availability: This document and additional information concerning OFAC are available on OFAC's website www.treasury.gov/ofac.

FOR FURTHER INFORMATION CONTACT:

OFAC: Assistant Director for Licensing, 202-622-2480; Assistant Director for Regulatory Affairs, 202-622-4855; or Assistant Director for Sanctions Compliance & Evaluation, 202-622-2490.

SUPPLEMENTARY INFORMATION:

Background

On March 6, 2014, the President, invoking the authority of, inter alia, the International Emergency Economic Powers Act (50 U.S.C. 1701-1706) (IEEPA), issued Executive Order (E.O.) 13660, “Blocking Property of Certain Persons Contributing to the Situation in Ukraine” (79 FR 13493, March 10, 2014). In E.O. 13660, the President determined that the actions and policies of persons including persons who have asserted governmental authority in the Crimean region without the authorization of the Government of Ukraine that undermine democratic processes and institutions in Ukraine; threaten its peace, security, stability, sovereignty, and territorial integrity; and contribute to the misappropriation of its assets, constitute an unusual and extraordinary threat to the national security and foreign policy of the United States, and declared a national emergency to deal with that threat.

The President subsequently issued E.O. 13661 of March 16, 2014, “Blocking Property of Additional Persons Contributing to the Situation in Ukraine” (79 FR 15535, March 19, 2014), and E.O. 13662 of March 20, 2014, “Blocking Property of Additional Persons Contributing to the Situation in Ukraine” (79 FR 16169, March 24, 2014), pursuant to the national emergency declared in E.O. 13660. E.O. 13661 and E.O. 13662 expanded the scope of the national emergency declared in E.O. 13660. On May 8, 2014, OFAC published the Ukraine Related Sanctions Regulations, 31 CFR part 589 (the “Regulations”), to implement E.O. 13660, E.O. 13661, and E.O. 13662 (79 FR 26365, May 8, 2014). The President has issued additional Executive orders pursuant to the national emergency declared in E.O. 13660, and expanded in E.O. 13661 and E.O. 13662, which are not discussed in this publication as they are not relevant to the web GLs being published.

OFAC, in consultation with the Department of State, issued GL 14 on April 23, 2018, pursuant to the Regulations, to authorize certain transactions and activities ordinarily incident and necessary to the maintenance or wind down of operations, contracts, or other agreements involving United Company RUSAL PLC, or any other entity in which United Company RUSAL PLC owns, directly or indirectly, a 50 percent or greater interest, and that were in effect prior to April 6, 2018, through 12:01 a.m. eastern daylight time, October 23, 2018.

Subsequently, OFAC issued five further iterations of GL 14, each of which extended the period the authorizations in GL 14 remained in effect: On September 21, 2018, OFAC issued GL 14A, which replaced and superseded GL 14, and extended the authorizations through 12:01 a.m. eastern standard time, November 12, 2018; on October 12, 2018, OFAC issued GL 14B, which replaced and superseded GL 14A, and extended the authorizations through 12:01 a.m. eastern standard time, December 12, 2018; on November 9, 2018, OFAC issued GL 14C, which replaced and superseded GL 14B, and extended the authorizations through 12:01 a.m. eastern standard time, January 7, 2019; on December 7, 2018, OFAC issued GL 14D, which replaced and superseded GL 14C, and extended the authorizations through 12:01 a.m. eastern standard time, January 21, 2019; and on January 16, 2019, OFAC issued GL 14E, which replaced and superseded GL 14D, and extended the authorizations through 12:01 a.m. eastern standard time, January 28, 2019. Following the delisting of United Company RUSAL PLC on January 27, 2019, OFAC authorization was no longer required to transact with the company or any other entity in which United Company RUSAL PLC owns, directly or indirectly, a 50 percent or greater interest. The texts of GLs 14, 14A, 14B, 14C, 14D, and 14E are provided below.

OFFICE OF FOREIGN ASSETS CONTROL

Ukraine-Related Sanctions Regulations 31 CFR Part 589

General License No. 14

Authorizing Certain Activities Necessary to Maintenance or Wind Down of Operations or Existing Contracts With United Company RUSAL PLC

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving United Company RUSAL PLC or any other entity in which United Company RUSAL PLC owns, directly or indirectly, a 50 percent or greater interest and that were in effect prior to April 6, 2018, are authorized through 12:01 a.m. eastern daylight time, October 23, 2018.

(b) All funds in accounts of blocked persons identified in paragraph (a) that were blocked as of 12:01 a.m. eastern daylight time, April 23, 2018 remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

John E. Smith

Director

Office of Foreign Assests Control

Dated: April 23, 2018

OFFICE OF FOREIGN ASSETS CONTROL

Ukraine Related Sanctions Regulations 31 CFR Part 589

General License No. 14A

Authorizing Certain Activities Necessary to Maintenance or Wind Down of Operations or Existing Contracts With United Company RUSAL PLC

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving United Company RUSAL PLC or any other entity in which United Company RUSAL PLC owns, directly or indirectly, a 50 percent or greater interest and that were in effect prior to April 6, 2018, are authorized through 12:01 a.m. eastern standard time, November 12, 2018.

(b) All funds in accounts of blocked persons identified in paragraph (a) that were blocked as of 12:01 a.m. eastern daylight time, April 23, 2018 remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective September 21, 2018, General License No. 14, dated April 23, 2018, is replaced and superseded in its entirety by this General License No. 14A.

Andrea Gacki

Director

Office of Foreign Assets Control

Dated: September 21, 2018

OFFICE OF FOREIGN ASSETS CONTROL

Ukraine Related Sanctions Regulations 31 CFR Part 589

General License No. 14B

Authorizing Certain Activities Necessary to Maintenance or Wind Down of Operations or Existing Contracts With United Company RUSAL PLC

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving United Company RUSAL PLC or any other entity in which United Company RUSAL PLC owns, directly or indirectly, a 50 percent or greater interest and that were in effect prior to April 6, 2018, are authorized through 12:01 a.m. eastern standard time, December 12, 2018.

(b) All funds in accounts of blocked persons identified in paragraph (a) that were blocked as of 12:01 a.m. eastern daylight time, April 23, 2018 remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective October 12, 2018, General License No. 14A, dated September 21, 2018, is replaced and superseded in its entirety by this General License No. 14B.

Andrea Gacki

Director

Office of Foreign Assets Control

Dated: October 12, 2018

OFFICE OF FOREIGN ASSETS CONTROL

Ukraine Related Sanctions Regulations 31 CFR Part 589

General License No. 14C

Authorizing Certain Activities Necessary to Maintenance or Wind Down of Operations or Existing Contracts With United Company RUSAL PLC

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving United Company RUSAL PLC or any other entity in which United Company RUSAL PLC owns, directly or indirectly, a 50 percent or greater interest and that were in effect prior to April 6, 2018, are authorized through 12:01 a.m. eastern standard time, January 7, 2019.

(b) All funds in accounts of blocked persons identified in paragraph (a) that were blocked as of 12:01 a.m. eastern daylight time, April 23, 2018 remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective November 9, 2018, General License No. 14B, dated October 12, 2018, is replaced and superseded in its entirety by this General License No. 14C.

Andrea Gacki

Director

Office of Foreign Assets Control

Dated: November 9, 2018

OFFICE OF FOREIGN ASSETS CONTROL

Ukraine Related Sanctions Regulations 31 CFR Part 589

General License No. 14D

Authorizing Certain Activities Necessary to Maintenance or Wind Down of Operations or Existing Contracts With United Company RUSAL PLC

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving United Company RUSAL PLC or any other entity in which United Company RUSAL PLC owns, directly or indirectly, a 50 percent or greater interest and that were in effect prior to April 6, 2018, are authorized through 12:01 a.m. eastern standard time, January 21, 2019.

(b) All funds in accounts of blocked persons identified in paragraph (a) that were blocked as of 12:01 a.m. eastern daylight time, April 23, 2018 remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective December 7, 2018, General License No. 14C, dated November 9, 2018, is replaced and superseded in its entirety by this General License No. 14D.

Andrea Gacki

Director

Office of Foreign Assets Control

Dated: December 7, 2018

OFFICE OF FOREIGN ASSETS CONTROL

Ukraine Related Sanctions Regulations 31 CFR Part 589

General License No. 14E

Authorizing Certain Activities Necessary to Maintenance or Wind Down of Operations or Existing Contracts With United Company RUSAL PLC

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving United Company RUSAL PLC or any other entity in which United Company RUSAL PLC owns, directly or indirectly, a 50 percent or greater interest and that were in effect prior to April 6, 2018, are authorized through 12:01 a.m. eastern standard time, January 28, 2019.

(b) All funds in accounts of blocked persons identified in paragraph (a) that were blocked as of 12:01 a.m. eastern daylight time, April 23, 2018 remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective January 16, 2019, General License No. 14D, dated December 7, 2018, is replaced and superseded in its entirety by this General License No. 14E.

Andrea Gacki

Director

Office of Foreign Assets Control

Dated: January 16, 2019

Dated: July 14, 2021.
Andrea M. Gacki,
Director, Office of Foreign Assets Control.

[FR Doc. 2021-15280 Filed 7-16-21; 8:45 am]

BILLING CODE 4810-AL-P